RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collection of information to determine (1) The practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Under Section 1(k) of the Railroad Unemployment Insurance Act (RUIA), unemployment and sickness benefits are not payable for any day remuneration is payable or accrues to the claimant. Also Section 4(a-1) of the RUIA provides that unemployment or sickness benefits are not payable for any day the claimant receives the same benefits under any law other than the RUIA. Under Railroad Retirement Board (RRB) regulations, 20 CFR 322.4(a), a claimant's certification or statement on an RRB-provided claim form that he or she did not work on any day claimed and did not receive income such as vacation pay or pay for time lost shall constitute sufficient evidence unless there is conflicting evidence. Further, under 20 CFR 322.4(b), when there is a question raised as to whether or not remuneration is payable or has accrued to a claimant with respect to a claimed day or days, an investigation shall be made with a view to obtaining information sufficient for a finding. The RRB utilizes the following four forms to obtain information from railroad employers, nonrailroad employers, and claimants, that is needed to determine whether a claimed day or days of unemployment or sickness were improperly or fraudulently claimed: Form ID-5i, Request for Employment Information; Form ID-5R (SUP), Report of Employees Paid RUIA Benefits for Every Day in Month Reported as Month of Creditable Service; Form ID-49R, Railroad Payroll Record Check; and Form UI-48, Statement Regarding Benefits Claimed for Days Worked. Completion is voluntary. One response is requested of each respondent.

To qualify for unemployment or sickness benefits payable under Section 2 of the Railroad Unemployment Insurance Act (RUIA), a railroad employee must have certain qualifying earnings in the applicable base year. In addition, to qualify for extended or accelerated benefits under Section 2 of the RUIA, a railroad employee who has exhausted his or her rights to normal benefits must have at least 10 years of railroad service (under certain conditions, military service may be credited as months of railroad service). Accelerated benefits are unemployment or sickness benefits that are payable to a railroad employee before the regular July 1 beginning date of a benefit year if an employee has 10 or more years of service and is not qualified for benefits in the current benefit year.

During the RUIA claims review process, the RRB may determine that unemployment or sickness benefits cannot be awarded because RRB records show insufficient qualifying service and/or compensation. When this occurs, the RRB allows the claimant the opportunity to provide additional information if they believe that the RRB service and compensation records are incorrect.

Depending on the circumstances, the RRB provides the following forms to obtain information needed to determine if a claimant has sufficient service or compensation to qualify for unemployment or sickness benefits. Form UI-9, Statement of Employment and Wages; Form UI-23, Statement of Service for Railroad Unemployment Insurance Benefits; Form UI-44, Claim for Credit for Military Service; Form ID-4F, Advising of Ineligibility for Unemployment Benefits; Form ID-4U, Advising of Service/Earnings Requirements for Unemployment Benefits; Form ID-4X, Advising of Service/Earnings Requirements for Sickness Benefits; Form ID-4Y, Advising of Ineligibility for Sickness Benefits; Form ID-20-1, Advising that Normal Unemployment Benefits Are About to Be Exhausted; Form ID-20-2, Advising that Normal Sickness Benefits Are About to Be Exhausted; and Form ID-20-4, Advising that Normal Sickness Benefits Are About to Be Exhausted/Non-Entitlement. Completion of these forms is required to obtain or retain a benefit. One response is required of each respondent.

Previous Requests for Comments: The RRB has already published the initial 60-day notice (78 FR 38412 on June 26, 2013) required by 44 U.S.C. 3506(c)(2). That request elicited no comments.

Information Collection Request (ICR)

Title: RUIA Investigations and Continuing Entitlement.

OMB Control Number: 3220-0025.

Forms submitted: UI-9, UI-23, UI-44, UI-48, ID-4F, ID-4U, ID-4X, ID-4Y, ID-5I, ID-5R (SUP), ID-49R, ID-20-1, ID-20-2, and ID-20-4.

Type of request: Revision of a currently approved collection.

Affected public: Private Sector; Businesses or other for profits.

Abstract: The information collection has two purposes. When RRB records indicate that railroad service and/or compensation is insufficient to qualify a claimant for unemployment or sickness benefits, the RRB obtains information needed to reconcile the compensation and/or service on record with that claimed by the employee. Other forms in the collection allow the RRB to determine whether unemployment or sickness benefits were improperly obtained.

Changes proposed: The RRB proposes to add to Items 4a and 5a of Form UI-48, Statement Regarding Benefits Claimed for Days Worked, two “go to” references to improve navigating the form. The RRB also proposes to remove the following seven forms from the information collection due to under 10 responses a year: ID-4F, ID-4Y, ID-20-1, ID-20-2, ID-20-4, ID-49R, and UI-23.

The burden estimate for the ICR is as follows:

Form No. | Annual responses | Time (minutes) | Burden (hours)
ID-5i | 1,050 | 15 | 262
ID-5R (SUP) | 400 | 10 | 67
UI-48 | 14 | 12 | 3
UI-9 | 69 | 10 | 11
UI-44 | 10 | 5 | 1
ID-4U | 35 | 5 | 3
ID-4X | 25 | 5 | 2
Total | 1,603 |  | 349

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois, 60611-2092 or Charles.Mierzwa@RRB.GOV and to the OMB Desk Officer for the RRB, Fax: 202-395-6974, Email address: OIRA_Submission@omb.eop.gov.

Charles Mierzwa,
Chief of Information Resources Management.

[FR Doc. 2013-20979 Filed 8-27-13; 8:45 am]

BILLING CODE 7905-01-P